DEPARTMENT OF ENERGY

Federal Energy Regulatory Commission

[Docket No. CP23-131-000]

East Tennessee Natural Gas, LLC; Notice of Waiver Period for Water Quality Certification Application

On July 20, 2023, East Tennessee Natural Gas, LLC submitted to the Federal Energy Regulatory Commission (Commission) a copy of its application for a Clean Water Act section 401(a)(1) water quality certification filed with the Tennessee Department of Environment and Conservation, in conjunction with the above captioned project. Pursuant to 40 CFR 121.6 and section 157.22(b) of the Commission's regulations,¹ we hereby notify the Tennessee Department of Environment and Conservation of the following:

¹ 18 CFR 157.22.

Date of Receipt of the Certification Request: June 26, 2023.

Reasonable Period of Time to Act on the Certification Request: June 26, 2024.

If the Tennessee Department of Environment and Conservation fails or refuses to act on the water quality certification request by the above waiver date, then the agency certifying authority is deemed waived pursuant to section 401(a)(1) of the Clean Water Act, 33 U.S.C. 1341(a)(1).

Dated: July 31, 2023.
Kimberly D. Bose,
Secretary.

[FR Doc. 2023-16709 Filed 8-4-23; 8:45 am]

BILLING CODE 6717-01-P